DEPARTMENT OF HOUSING AND URBAN DEVELOPMENT

[Docket No. FR-5509-N-01]

Notice of Web Availability: Notice of Funding Availability (NOFA) for HUD's Fiscal Year (FY) 2011 Capacity Building for Sustainable Communities Program

AGENCY: Office of the Chief of the Human Capital Officer, HUD.

ACTION: Notice.

SUMMARY: HUD announces the availability on its website and Grants.gov, applicant information, submission deadlines, funding criteria, and other requirements for HUD's FY2011 Capacity Building for Sustainable Communities Program NOFA. Specifically, this NOFA announces the availability of approximately $5.65 million made available under the Department of Defense and Full-Year Continuing Appropriations Act, 2011, Public Law 112-10, enacted April 15, 2011.

Program Purpose: The purpose of the Capacity Building for Sustainable Communities program is twofold. The first purpose is to assemble a collection of capacity building service providers to work directly with the FY2010 and FY2011 HUD Sustainable Communities Regional Planning and Community Challenge grant recipients, HUD Preferred Sustainability Status Communities, and EPA Sustainable Community Technical Assistance recipients and Brownfield Area Wide Planning grant recipients (collectively —Sustainable Communities Grantees), to enable them to fulfill their anticipated outcomes. HUD and other Partnership agencies will work regularly with all selected intermediary service providers to maintain a coordinated and leveraged delivery approach that ensures the maximum benefit to local governments, regions, and planning entities and partners engaged in the prescribed activities.

The second purpose of the Program is to build a national coalition and leadership network of the Sustainable Communities grantees. The purpose of the network is to facilitate the exchange of successful strategies, lessons learned, emerging tools and public engagement strategies, and approaches for avoiding or minimizing pitfalls. HUD will work with the selected intermediaries to develop a robust evaluation component for the network.

The notice providing information regarding the application process, funding criteria and eligibility requirements, application and instructions can be found using the Department of Housing and Urban Development agency link on the Grants.gov/Find Web site at http://www.grants.gov/search/agency.do. A link to the funding opportunity is also available on the HUD Web site at http://portal.hud.gov/hudportal/HUD?src=/program_offices/administration/grants/fundsavail.

The link from the funds available page will take you to the agency link on Grants.gov. The Catalogue of Federal Domestic Assistance (CFDA) number for this program is 14.705. Applications must be submitted electronically through Grants.gov.

FOR FURTHER INFORMATION CONTACT: Questions regarding specific program requirements should be directed to the agency contact identified in the program NOFA. Program staff will not be available to provide guidance on how to prepare the application. Questions regarding the 2011 General Section should be directed to the Office of Grants Management and Oversight at (202) 708-0667 or the NOFA Information Center at 800-HUD-8929 (toll free). Persons with hearing or speech impairments may access these numbers via TTY by calling the Federal Information Relay Service at 800-877-8339.

Dated: June 10, 2011.
Barbara S. Dorf,
Director, Office of Departmental Grants, Management, and Oversight, Office of the Chief of the Human Capital Officer.

[FR Doc. 2011-15032 Filed 6-16-11; 8:45 am]

BILLING CODE 4210-67-P